DEPARTMENT OF HOUSING AND URBAN DEVELOPMENT

[Docket No. FR-4912-N-14]

Notice of Intent To Prepare a Draft Environmental Impact Statement for Development of Cedar Grove Housing in Tahoe Vista, Placer County, CA

AGENCY: Office of the Assistant Secretary for Community Planning and Development, HUD.

ACTION: Notice.

SUMMARY: HUD gives notice to the public, agencies, and Indian tribes that Placer County, CA, intends to prepare an Environmental Impact Statement (EIS)/Environmental Impact Report (EIR) (EIS/EIR) for development of Cedar Grove Housing located in Tahoe Vista, Placer County, CA. Placer County, acting as the lead agency, will prepare the EIS/EIR acting under its authority as the responsible entity for compliance with the National Environmental Policy Act (NEPA) in accordance with 42 U.S.C. 5304(g) and HUD regulations at 24 CFR 58.4, and under its authority as lead agency in accordance with the California Environmental Quality Act (CEQA). The EIS/EIR will be a joint document under NEPA, CEQA and the Tahoe Regional Planning Agency (TRPA) Code of Ordinances. The EIS will satisfy the requirements of NEPA and the TRPA Code of Ordinances. The EIR will satisfy requirements of the CEQA (Public Resources Code 21000 et seq.) and State CEQA Guidelines (14 California Code of Regulations 15000 et seq.), which require that all State and local government agencies consider the environmental consequences of projects over which they have discretionary authority before acting on those projects.

The proposed action is subject to compliance with NEPA, because Federal Community Development Block Grant (i.e., CDBG) funds and possible other HUD housing program funds (discussed below) would be used for the development of affordable housing. This notice is given in accordance with the Council on Environmental Quality regulations at 40 CFR parts 1500-1508. All interested Federal, State, and local agencies, Indian tribes, groups, and the public are invited to comment on the scope of the EIS. If you are an agency with jurisdiction by law over natural or other public resources affected by the project, Placer County needs to know what environmental information germane to your statutory responsibilities should be included in the EIS/EIR.

ADDRESSES: Comments relating to the scope of the EIS are requested and will be accepted by the contact person listed below for up to 30 days following the date of publication. Any person or agency interested in receiving a notice and wishing to make comment on the draft EIS should contact the person listed below.

FOR FURTHER INFORMATION CONTACT: Joanne Auerbach, County NEPA Certifying Officer and Housing Program Coordinator, Placer County Redevelopment Agency, 11493 B Avenue, Auburn, CA 95603. Contact Phone Number: 530/889-4264, Fax Number: 530/889-6890, E-mail: mailto:jauerbac@placer.ca.gov.

PUBLIC MEETING: There will be no future public scoping meetings on this EIS/EIR, because foreseeable impacts were identified in the previous public scoping meetings. There will be additional public hearings. The dates will be posted on the Placer County Web site, http://www.placer.ca.gov/, when the Public Review Draft EIS/EIR is released.

SUPPLEMENTARY INFORMATION

Project Name and Description

The Affordable Housing Development Corporation, Inc. (AHDC), proposes to develop approximately 12.2 acres in the Tahoe Vista area of Placer County for an affordable housing complex. The project site is located on the Kings Beach 7.5-minute U.S.G.S. topographic quadrangle map, north of State Route 28 and west of National Avenue in Tahoe Vista, California. The site is currently undeveloped, forested land with dense stands of pine, fir, and cedar. Adjacent properties to the east and west have been developed for residential housing. The North Tahoe Regional Park is directly north of the project site, and the Mourelatos resort is to the south.

The project would require an amendment to the Tahoe Vista Community Plan for the annexation of the land to the Tahoe Vista Community and a TRPA Plan Area Statement (PAS) Amendment for the Tahoe Estates PAS 021 Special Area 6.

This is to be a combined document—EIR under the California State Environmental Quality Act, EIS under the National Environmental Policy Act and HUD regulations in 24 CFR Part 58, and EIS under the TRPA Code of Ordinances.

The proposed development would consist of approximately 152 rental housing units, 23 buildings, approximately 41.7 percent site coverage, and a density of 12.4 units per acre. All of the units would be affordable to families with incomes at or below 80 percent of the median income. An internal looped roadway system with separate points for both entry and exit is proposed as part of the project. National Avenue would provide the main access from State Route 28. Points of access to the complex from National Avenue that are being considered include: Grey Lane and Toyon Road, with Wildwood Road via Estates Drive being an alternative or emergency access road. A Class 1 bike trail and onsite parking are also proposed for the site.

Alternatives to the Proposed Action

There are five alternatives to the proposed action to be analyzed in the EIR/EIS. The alternatives are all variations of the site layout and density. Alternative sites for the project were explored early in the process and it was determined that no other more viable site was available.

Alternative B, 132 Units

Coverage Ratio: 38.6 percent

Population: 364 (Assuming 1 person/bedroom)

Alternative C, 160 Units

Coverage Ratio: 44.0 percent

Population: 452 (Assuming 1 person/bedroom)

Alternative D, 144 Units

Coverage Ratio: 30 percent

Population: 568 (Assuming 1 person/bedroom)

Alternative E, 152 Units

Coverage Ratio: 50 percent

Population: 394 (Assuming 1 person/bedroom)

Alternative F, No Project/No Action

If nothing were done, no additional affordable housing would be built. The project site would remain vacant.

Probable Environmental Effects

The following subject areas will be analyzed in the combined EIS/EIR for probable environmental effects: water quality, soils and geology, air quality, noise, transportation, vegetation, wildlife and scenic resources, cultural and historic resources, land use, growth inducement, public services and public utilities.

Lead Agencies

For purposes of complying with NEPA and CEQA, Placer County is the Lead Agency and as the Responsible Entity under 24 CFR 58.2(a)(7) assumes the responsibility for environmental review, decisionmaking, and action that would otherwise apply to HUD under NEPA. Respectively, section 104(g) of Title I of the Housing and Community Development Act (42 U.S.C. 5304(g)) and section 288 of Title II of the Cranston-Gonzalez National Affordable Housing Act (42 U.S.C. 12838) authorize recipients of HUD assistance to assume NEPA responsibilities in projects involving CDBG for infrastructure development and possibly HOME funds for affordable housing development.

The TRPA is the Lead Agency for the EIS written in accordance with Tahoe Regional Planning Compact and TRPA's Code of Ordinances.

TRPA is a multi-state (California and Nevada) agency that has its own Code of Ordinances. These are based on both CEQA and NEPA but there are some minor differences from both, hence the necessity to do a three-way document that will comply with CEQA, TRPA and NEPA. TRPA has its own procedures and Code of Ordinances because it is exempt from CEQA and California land use laws.

Questions may be directed to the individual named in this notice under the heading For Further Information Contact.

Dated: October 13, 2005.
Pamela H. Patenaude,
Assistant Secretary for Community Planning and Development.

[FR Doc. E5-5841 Filed 10-20-05; 8:45 am]

BILLING CODE 4210-27-P